ENVIRONMENTAL PROTECTION AGENCY

[RCRA-1999-0050, FRL-7475-8]

Agency Information Collection Activities: Submission for OMB Review; Comment Request; Part B Permit Application, Permit Modifications, and Special Permits

AGENCY: Environmental Protection Agency (EPA).

ACTION: Notice.

SUMMARY: In compliance with the Paperwork Reduction Act (44 U.S.C. 3501 et seq.), this document announces that the following Information Collection Request (ICR) has been forwarded to the Office of Management and Budget (OMB) for review and approval: Part B Permit Application, Permit Modifications, and Special Permits, EPA ICR # 1573.10, OMB No. 2050-0009, expires on March 31, 2003. The ICR describes the nature of the information collection and its expected burden and cost; where appropriate, it includes the actual data collection instrument.

DATES: Comments must be submitted on or before May 2, 2003.

ADDRESSES: Follow the detailed instructions in SUPPLEMENTARY INFORMATION.

FOR FURTHER INFORMATION CONTACT: David Eberly, Office of Solid Waste (5303W), Environmental Protection Agency, 1200 Pennsylvania Ave., NW., Washington, DC 20460; telephone number: (703) 308-8645, or by e-mail at eberly.david@epa.gov.

SUPPLEMENTARY INFORMATION: EPA has established a public docket for this ICR under Docket ID No. RCRA-1999-0050, which is available for public viewing at the RCRA Docket in the EPA Docket Center (EPA/DC), EPA West, Room B102, 1301 Constitution Ave., NW., Washington, DC. The EPA Docket Center Public Reading Room is open from 8:30 a.m. to 4:30 p.m., Monday through Friday, excluding legal holidays. The telephone number for the Reading Room is (202) 566-1744, and the telephone number for the RCRA Docket is (202) 566-0270. An electronic version of the public docket is available through EPA Dockets (EDOCKET) at http://www.epa.gov/edocket. Use EDOCKET to submit or view public comments, access the index listing of the contents of the public docket, and to access those documents in the public docket that are available electronically. Once in the system, select “search,” then key in the docket ID number identified above.

Any comments related to this ICR should be submitted to EPA and OMB within 30 days of this notice, and according to the following detailed instructions: (1) Submit your comments to EPA online using EDOCKET (our preferred method), by email to the rcra-docket@epa.gov, or by mail to: EPA Docket Center, Environmental Protection Agency, RCRA Docket, 5305T, 1200 Pennsylvania Ave., NW., Washington, DC 20460, and (2) Mail your comments to OMB at: Office of Information and Regulatory Affairs, Office of Management and Budget (OMB), Attention: Desk Officer for EPA, 725 17th Street, NW., Washington, DC 20503.

EPA's policy is that public comments, whether submitted electronically or in paper, will be made available for public viewing in EDOCKET as EPA receives them and without change, unless the comment contains copyrighted material, CBI, or other information whose public disclosure is restricted by statute. When EPA identifies a comment containing copyrighted material, EPA will provide a reference to that material in the version of the comment that is placed in EDOCKET. The entire printed comment, including the copyrighted material, will be available in the public docket. Although identified as an item in the official docket, information claimed as CBI, or whose disclosure is otherwise restricted by statute, is not included in the official public docket, and will not be available for public viewing in EDOCKET.

Title: Part B Permit Application, Permit Modifications, and Special Permits, OMB Control No. 2050-0009, EPA ICR No. 1573.10, expiring on March 31, 2003. This is a request for extension of a currently approved collection. Under OMB regulations, the Agency may continue to conduct or sponsor the collection of information while this submission is pending at OMB.

Abstract: Section 3005 of Subtitle C of RCRA requires treatment, storage or disposal (TSD) facilities to obtain a permit. To obtain the permit, the TSD must submit an application describing the facility's operation. There are two parts to the RCRA permit application—part A and part B. Part A defines the processes to be used for treatment, storage, and disposal of hazardous wastes; the design capacity of such processes; and the specific hazardous wastes to be handled at the facility. Part B requires detailed site specific information such as geologic, hydrologic, and engineering data. In the event that permit modifications are proposed by the applicant or EPA, modifications must conform to the requirements under sections 3004 and 3005.

This ICR provides a comprehensive discussion of the requirements for owner/operators of TSDFs submitting applications for a part B permit or permit modification. The information collections contained in this ICR are divided into three sections: demonstrations and exemptions from requirements (40 CFR part 264), contents of the part B application (40 CFR part 270), and permit modifications and special permits (40 CFR part 270).

Demonstrations and Exemptions From Requirements

40 CFR part 264 contains minimum standards for TSDFs consisting of both administrative and technical requirements. Owner/operators may obtain exemption from certain requirements by submitting demonstrations to EPA. In most cases, these demonstrations will be submitted along with the part B application. Section 264.90 allows owner/operators to submit a demonstration for exemption from the subpart F requirements regarding releases to the uppermost aquifer. In addition, owner/operators of tank systems, surface impoundments, waste piles, landfills, land treatment facilities and incinerators may apply for exemptions from certain technical requirements by submitting demonstrations under §§ 264.193, .221, .251, .272, .301 and .344, respectively.

Contents of the Part B Application 40 CFR part 270 contains requirements for owner/operators submitting a part B permit application. Section 270.1 allows owner/operators of certain facilities closing by removal or decontamination to petition for an exemption from post-closure permit requirements. Section 270.10 requires owner/operators of certain facilities to provide information on the potential for public exposure resulting from unit-related releases.

Part B of the permit application consists of the general and specific information requirements contained in §§ 270.14 through 270.29. These part B information requirements reflect the standards promulgated in 40 CFR part 264. Under § 270.14(a), owner/operators who can demonstrate that the information prescribed in part B cannot be provided to the extent required may receive case-by-case allowances from EPA.

General information requirements are outlined in § 270.14. Sections 270.14(b)(1)-(14) require owner/operators to provide information on compliance with general facility standards. Financial assurance information is required under §§ 270.15—.18. Section 270.14(b)(19) requires owner/operators to submit a topographical map, and § 270.14(b)(21) covers special requirements for owner/operators of land disposal facilities granted case-by-case extensions under § 268.5 or petitions under § 268.6. Information on ground-water quality and monitoring programs for land disposal facilities is discussed under §§ 270.14(c)(1)-(8). Section 270.14(d) establishes part B information requirements for solid waste management units.

In addition to the general part B information that must be submitted by all owner/operators of TSDFs, there are unique information requirements related to the type of unit for which the owner/operator is seeking a permit. The requirements under §§ 270.15-.21 and .23 address specific requirements for the following types of units: containers, tank systems, surface impoundments, waste piles, incinerators, land treatment units, landfills, boilers and industrial furnaces, and miscellaneous units. Sections 270.24 and 270.25 apply to facilities with process vents or equipment subject to the requirements of 40 CFR parts 264/265, subparts AA and BB, respectively. Section 270.26 applies to facilities with drip pads subject to the requirements of 40 CFR parts 264/265, subpart W.

Some owner/operators may also be required to submit a schedule of compliance leading to compliance with RCRA and regulations as part of their application. The requirements for schedules of compliance are contained in § 270.33.

Permit Modifications and Special Permits

Sections 270.40 through 270.42 address the requirements for permit modifications. Section 270.40 applies to owner/operators transferring ownership or operational control of a facility. These owner/operators must submit Class 1 permit modifications as well as a written agreement containing specific transfer information. Requirements for owner/operators submitting permit modifications at the request of the Agency are contained in § 270.41. Requirements for Class 1, 2, and 3 permit modifications submitted at the request of the permittee are contained in § 270.42(a)-(c). Section 270.42(d) allows permittees to request that the Agency determine the classification for a specific modification. Sections 270.42(e) and (g) discuss requirements for temporary authorization and permit modifications for newly regulated wastes and units, respectively.

In 40 CFR part 264, subpart S, EPA promulgated regulations for corrective action management units (CAMUs). 40 CFR 264.552(d) requires owner/operators to prepare and submit information that enables EPA to designate a CAMU.

Requirements for permit renewal are contained in §§ 270.50 and 270.51. In order to renew an expiring permit, owner/operators must submit an application containing the information required under § 270.14 and the applicable sections of §§ 270.15 through 270.29.

Sections 270.60 and 270.62 through 270.65 address the requirements associated with special types of permits. These include permits by rule (§ 270.60); hazardous waste incinerator permits (§ 270.62); permits for land treatment demonstrations using field test or laboratory analyses (§ 270.63); interim permits for UIC wells (§ 270.64); and research, development and demonstration permits (§ 270.65).

An agency may not conduct or sponsor, and a person is not required to respond to, a collection of information unless it displays a currently valid OMB control number. The OMB control numbers for EPA's regulations are listed in 40 CFR part 9 and 48 CFR chapter 15. The Federal Register document required under 5 CFR 1320.8(d), soliciting comments on this collection of information was published on July 23, 1999 (64 FR 39986); no comments were received.

Burden Statement: The annual public reporting and recordkeeping burden for this collection of information is estimated to average 165 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Business.

Estimated Number of Respondents: 74.

Frequency of Response: Occasional.

Estimated Total Annual Hour Burden: 12,209 hours.

Estimated Total Annualized Capital, Operating/Maintenance Cost Burden: $2,468,000.

Changes in the Estimates: There is a decrease of 165,523 hours in the total estimated burden currently identified in the OMB Inventory of Approved ICR Burdens. This is due to a lower number of affected facilities.

Dated: March 25, 2003.
Oscar Morales,
Director, Collection Strategies Division.

[FR Doc. 03-7972 Filed 4-1-03; 8:45 am]

BILLING CODE 6560-50-P